Title 3—

The President

Proclamation 9713 of March 29, 2018

Cancer Control Month, 2018

By the President of the United States of America

A Proclamation

During National Cancer Control Month, we remember the loved ones we have lost to cancer and recommit our support for the courageous individuals who are fighting this terrible disease. We also pause to thank the devoted healthcare professionals, scientists, and researchers who work tirelessly to discover a cure for cancer and whose combined efforts have contributed to an encouraging decline in the overall rate of deaths from cancer over the past two decades.

American innovators and entrepreneurs have made many incredible scientific breakthroughs during the past century. In the field of medicine, American scientists have been at the forefront of world-class research that has developed increasingly effective cancer prevention strategies and treatments. Through public- and private-sector partnerships, Americans have made critical advances to support and expand precision medicine and immunotherapy approaches to cancer. These innovations have given us greater ability to prevent, detect, and treat cancer and have helped more than 15 million Americans beat this disease.

Despite these tremendous strides, we recognize the staggering number of Americans who have lost their battles with cancer. Last year alone, cancer took the lives of approximately 600,000 adults and 2,000 children in the United States, making it the second leading cause of death in our Nation. According to the National Cancer Institute, nearly 40 percent of all Americans will be diagnosed with cancer in their lifetime. Together, we must take action to prevent and combat cancer, including maintaining healthy diets and weight and making physical activity a part of each day. Regular screenings and physicals, as well as knowledge of family medical history, are also crucial to catching cancers in earlier, more treatable stages.

As we observe National Cancer Control Month, let us raise awareness of the measures we can take to prevent cancer and strengthen our resolve to find a cure for this horrible disease, which continues to cause so many families such great pain. Let us also honor the determination, courage, and strength of our cancer survivors. Their stories are an inspiration to all Americans.

NOW, THEREFORE, I, DONALD J. TRUMP, President of the United States of America, by virtue of the authority vested in me by the Constitution and the laws of the United States, do hereby proclaim April 2018 as Cancer Control Month. I call upon the people of the United States to speak with their doctors and healthcare providers to learn more about preventative measures that can save lives. I encourage citizens, government agencies, private businesses, nonprofit organizations, and other interested groups to join in activities that will increase awareness of what Americans can do to prevent and control cancer. I also invite the Governors of the States and Territories and officials of other areas subject to the jurisdiction of the United States to join me in recognizing National Cancer Control Month.

IN WITNESS WHEREOF, I have hereunto set my hand this twenty-ninth day of March, in the year of our Lord two thousand eighteen, and of the Independence of the United States of America the two hundred and forty-second.

[FR Doc. 2018-06921

Filed 4-2-18; 11:15 am]

Billing code 3295-F8-P